DEPARTMENT OF COMMERCE

National Oceanic and Atmospheric Administration

[RTID 0648-XD152]

Fisheries of the Exclusive Economic Zone off Alaska; Request for Information on Research Priorities for the North Pacific Fishery Management Council

AGENCY: National Marine Fisheries Service (NMFS), National Oceanic and Atmospheric Administration (NOAA), Commerce.

ACTION: Notification; request for information.

SUMMARY: The North Pacific Fishery Management Council (Council) is requesting information from the public on research priorities for the fisheries of the Exclusive Economic Zone off Alaska for its triennial review. The Council develops research priorities for fisheries, habitats, and other areas necessary for management purposes and reviews those priorities every 3 years. This notice invites the public to submit written comments on the topic generally and in response to specific questions outlined below.

DATES: Comments must be received via the Council's eAgenda meeting portal by 5 p.m. AKT on October 31, 2023 (see ADDRESSES for website URL).

ADDRESSES: Please submit written comments to the Council's eAgenda meeting portal at “Request for Information: Research Priorities Triennial Review”, https://meetings.npfmc.org/Meeting/Details/2998, using either the “Comment Now” function on the eAgenda page or by using the comment form, https://forms.gle/PPfkFPQ1JCXJrRSN9, by the October 31, 2023, deadline.

Council address: North Pacific Fishery Management Council, 1007 W 3rd Ave, Anchorage, AK 99501-2252; telephone: (907) 271-2809.

FOR FURTHER INFORMATION CONTACT: Nicole Watson, nicole.watson@noaa.gov or by telephone (907) 271-2809.

SUPPLEMENTARY INFORMATION:

Background

The Magnuson-Stevens Fishery Conservation and Management Act (MSA) requires that regional fishery management councils develop “multi-year research priorities for fisheries, fisheries interactions, habitats, and other areas of research that are necessary for management purposes” (16 U.S.C. 1852(h)(7)). This includes research to support fishery management plans and associated regulations for fisheries requiring conservation and management to prevent overfishing, rebuild depleted fish stocks, and ensure sustainable fishing practices. Research priorities should be established and updated as necessary. The Council reviews its research priorities every 3 years, and the next triennial review of research priorities is tentatively scheduled for April 2024.

The MSA identifies the intended audience for Council research priorities as the Secretary of Commerce and, the Alaska Fisheries Science Center (AFSC), “for their consideration in developing research priorities and budgets” for Alaska. In past years, Council research priorities were provided to the Secretary of Commerce, the AFSC, as well as research and funding entities including universities, research boards, and other management agencies in the region. Additional entities that intersect with the Council management responsibilities may also be included as participation in the development of these research priorities broadens.

In the past, new research priorities were developed and reviewed by the Council's four stock assessment plan teams, the Scientific and Statistical Committee (SSC), and ultimately the Council, with public input provided at those plan team, SSC, and Council meetings. Going forward, the Council would like receive input and suggestions from the public early in the process of developing new research priorities and is now soliciting input from the public through this request for information (RFI).

Opportunities for the public to suggest research priorities will occur through October 31, 2023, using either the online submission form or the “Comment Now” option available on the Council's eAgenda meeting portal at “Request for Information: Research Priorities Triennial Review.” Initial reviews of the submissions will begin in early November 2023 and are expected to continue through early 2024. The document, “Proposed Process for Development of NPFMC Research Priorities,” https://meetings.npfmc.org/CommentReview/DownloadFile?p=fb8df4b1-60d4-47e8-afbf-cf20690b1d93.pdf&fileName=Research%20Priorities%20Process.pdf, includes additional information regarding the process for research priority development.

The most recent Council research priorities from the April 2021 Research Priorities Triennial Review can be found here: https://tinyurl.com/April-2021-Research-Priorities.

Council research priority terms and category definitions (critical ongoing monitoring, urgent, important, or strategic) can be found here: https://tinyurl.com/terms-and-category-definitions.

Request for Information

The scope of public comments is not limited, but questions that may be considered include:

1. Description of suggested research priority for the Council to consider;

2. Description of the fisheries management concern addressed by the suggested research priority;

3. Category of the suggested research priority: critical ongoing monitoring, urgent, important, or strategic;

4. General subject area of suggested research priority: Bering Sea groundfish; Gulf of Alaska groundfish; crab; scallop; halibut; ecosystem related; habitat; local knowledge, traditional knowledge, subsistence; marine birds; marine mammals; bycatch; electronic monitoring; management or policy; or other;

5. Geographical (ecosystem) area that best fits suggested research priority: Bering Sea, Aleutian Islands, Gulf of Alaska, or Arctic; and,

6. Approximate timeline of the suggested research priority.

All new research priority recommendations must be submitted by October 31, 2023, to be considered during this upcoming triennial review. In addition to submitting research priority ideas as part of this request for information, the public will have the opportunity to provide comments to subject area Plan Teams and a subgroup of the Council's SSC. These advisory bodies will meet, tentatively between November 2023 and January 2024, to provide the SSC input on prioritizing specific research needs. Additional opportunities to provide comment on prioritization will occur at the February 2024 SSC meeting and at the April 2024 SSC and Council meetings; however, no new research priority submissions will be accepted during the Plan Team, SSC, and Council meetings. During the April 2024 SSC meeting, a priority list combined across subject areas, consisting of 8 to 12 research priorities, will be developed to present to the Council for the Council's consideration. Once the review is final, the Council will submit its research priorities to the Secretary of Commerce (NOAA) and the AFSC for their consideration in developing research priorities and budgets for the Alaska Region (16 U.S.C. 1852(h)(7)(C)).

Public Comment

Responses to this request are voluntary. Respondents need not reply to all questions. All responses are part of the public record and will be posted on a public website. Therefore, confidential business information, copyrighted information, or personally identifiable information (e.g., name, address) should not be submitted in response to this request. NOAA and the Council will not pay for any information or administrative costs that you may incur in responding to this RFI, or for the use of any information contained in the response. The documents and information submitted in response to this RFI become the property of the U.S. Government and will not be returned.

Dated: July 10, 2023.
Kelly Denit,
Director, Office of Sustainable Fisheries, National Marine Fisheries Service.

[FR Doc. 2023-14924 Filed 7-13-23; 8:45 am]

BILLING CODE 3510-22-P